ENVIRONMENTAL PROTECTION AGENCY

40 CFR Part 97

[EPA-HQ-OAR-2009-0491; FRL-9632-9]

RIN 2060-AR35

Revisions to Federal Implementation Plans To Reduce Interstate Transport of Fine Particulate Matter and Ozone

AGENCY: Environmental Protection Agency (EPA).

ACTION: Proposed rule.

SUMMARY: EPA is proposing additional revisions to certain portions of the Transport Rule (Federal Implementation Plans: Interstate Transport of Fine Particulate Matter and Ozone and Correction of SIP Approvals, published August 8, 2011). The final Transport Rule limits the interstate transport of emissions of nitrogen oxides (NOX) and sulfur dioxide (SO2) that contribute harmful levels of fine particle matter and ozone in downwind states. After the final rule was published, it was brought to our attention that there are some incorrect data assumptions that affect a few states' budgets or new unit set-asides in the rule text. On October 14, 2011, EPA proposed revisions to the final Transport Rule based on this new information and sought comment on additional unit-level information addressing post-combustion pollution control equipment and operational requirements necessitating non-economic generation of a unit. EPA is finalizing the earlier specifically proposed revisions in a separate action. EPA has reviewed the information provided in comments addressing the topics described above and proposes to determine that the unit-level adjustments described in the preamble to the direct final are merited.

DATES: Written comments must be received by March 22, 2012.

ADDRESSES: Submit your comments, identified by Docket ID No. EPA-HQ-OAR-2009-0491, by mail to: Air and Radiation Docket and Information Center, U.S. Environmental Protection Agency, Mailcode: 2822T, 1200 Pennsylvania Avenue NW., Washington, DC 20460. Comments may also be submitted electronically or through hand delivery/courier by following the detailed instructions in the ADDRESSES section of the direct final rule published elsewhere in this issue of the Federal Register.

FOR FURTHER INFORMATION CONTACT: Gabrielle Stevens, U.S. Environmental Protection Agency, Clean Air Markets Division, MC 6204J, Ariel Rios Building, 1200 Pennsylvania Ave. NW., Washington, DC 20460, telephone (202) 343-9252, email at stevens.gabrielle@epa.gov. Electronic copies of this document can be accessed through the EPA Web site at: http://epa.gov/airmarkets.

SUPPLEMENTARY INFORMATION: This document proposes to take action on certain portions of the Transport Rule. We finalized a rule to address discrepancies in unit-specific modeling assumptions that affect the proposed calculation of Transport Rule state budgets in Florida, Louisiana, Michigan, Mississippi, Nebraska, New Jersey, New York, Texas and Wisconsin, as well as new unit set-asides in Arkansas and Texas (see 76 FR 63860, October 14, 2011). We are issuing a direct final rule, in parallel with this proposal published elsewhere in this issue, based on comments received on the Revisions Rule proposal, to amend the August 8, 2011, final regulation (76 FR 48208) by correcting annual NOX budgets in Georgia, Kansas, Missouri, New York, Ohio, and Texas; ozone-season NOX budgets in Arkansas, Georgia, Louisiana, Mississippi, Missouri, New York, Ohio, Oklahoma, and Texas; SO2 budgets in Georgia, Indiana, Kansas, Nebraska, New York, Ohio, and South Carolina; and new unit set-aside budgets in Arkansas, Louisiana, and Missouri.

We have explained our reasons for this action in the preamble to the direct final rule. If we receive no significant adverse comment, on the direct final rule, EPA will withdraw the relevant portions of the rule and timely notice of the withdrawal will be published in the Federal Register. We would address all relevant public comments in any subsequent final rule based on this proposed rule.

We do not intend to institute a second comment period on this action. Any parties interested in commenting must do so at this time. For further information, please see the information provided in the ADDRESSES section of this document.

Dated: February 7, 2012.
Lisa P. Jackson,
Administrator.

[FR Doc. 2012-3702 Filed 2-17-12; 8:45 am]

BILLING CODE 6560-50-P